DEPARTMENT OF COMMERCE

National Oceanic and Atmospheric Administration

RIN 0648-XA474

Gulf of Mexico Fishery Management Council; Public Meeting

AGENCY: National Marine Fisheries Service (NMFS), National Oceanic and Atmospheric Administration (NOAA), Commerce.

ACTION: Council to convene a public meeting.

SUMMARY: The Gulf of Mexico Fishery Management Council will convene a meeting of the Ecosystem Scientific and Statistical Committee.

DATES: The meeting will convene at 8:30 a.m. Eastern time on Tuesday, June 28, 2011 and conclude by 2 p.m. on Thursday, June 30, 2011.

ADDRESSES: The meeting will be held at the Gulf of Mexico Fishery Management Council Office located at 2203 N. Lois Avenue, Suite 1100, Tampa, FL 33607.

Council address: Gulf of Mexico Fishery Management Council, 2203 N. Lois Avenue, Suite 1100, Tampa, FL 33607.

FOR FURTHER INFORMATION CONTACT: Dr. Karen Burns, Ecosystem Management Specialist; Gulf of Mexico Fishery Management Council; telephone: (813) 348-1630.

SUPPLEMENTARY INFORMATION: The Ecosystem Scientific and Statistical Committee will meet to discuss the proposed short and long term work plan and conceptual framework for the Ecosystem Scientific and Statistical Committee. The Ecosystem Scientific and Statistical Committee will also discuss ecological, fishery, and social indicators, changes to the SEDAR process, an update on the shallow water grouper model and B.P. Oil Spill and elect an Ecosystem Scientific and Statistical Committee chair and vice chair to serve for the next two years.

Copies of the agenda and other related materials can be obtained by calling (813) 348-1630. Materials will also be available to download from the Gulf Council's ftp site. Click on the ftp server under Quick Links, scroll to the Ecosystem folder. In the Ecosystem folder click on the directory named Ecosystem SSC meeting-2011-06.

Although other non-emergency issues not on the agenda may come before the Ecosystem Scientific and Statistical Committee for discussion, in accordance with the Magnuson-Stevens Fishery Conservation and Management Act (Magnuson-Stevens Act), those issues may not be the subject of formal action during this meeting. Actions of the Working Group will be restricted to those issues specifically identified in the agenda and any issues arising after publication of this notice that require emergency action under Section 305(c) of the Magnuson-Stevens Act, provided the public has been notified of the Council's intent to take action to address the emergency.

Special Accommodations

This meeting is physically accessible to people with disabilities. Requests for sign language interpretation or other auxiliary aids should be directed to Kathy Pereira at the Council (see ADDRESSES) at least 5 working days prior to the meeting.

Dated: June 2, 2011.
Tracey L. Thompson,
Acting Director, Office of Sustainable Fisheries, National Marine Fisheries Service.

[FR Doc. 2011-13996 Filed 6-6-11; 8:45 am]

BILLING CODE 3510-22-P